DEPARTMENT OF COMMERCE

National Oceanic and Atmospheric Administration

[I.D. 061703B]

Marine Mammals; Photography Permit Application No. 997-1704

AGENCY: National Marine Fisheries Service (NMFS), National Oceanic and Atmospheric Administration (NOAA), Commerce.

ACTION: Receipt of application.

SUMMARY: Notice is hereby given that Bob McLaughlin, P.O. Box 496, 339 Glenwood, Eastsound, Washington 98245, has applied in due form for a permit to take several species of non-listed marine mammals for purposes of commercial/educational photography.

DATES: Written or telefaxed comments must be received on or before July 28, 2003.

ADDRESSES: The application and related documents are available for review upon written request or by appointment in the following office(s):

Permits, Conservation and Education Division, Office of Protected Resources, NMFS, 1315 East-West Highway, Room 13705, Silver Spring, MD 20910; phone (301)713-2289; fax (301)713-0376; and

Northwest Region, NMFS, 7600 Sand Point Way NE, BIN C15700, Bldg. 1, Seattle, WA 98115-0700; phone (206)526-6150; fax (206)526-6426; and,

Alaska Region, NMFS, P.O. Box 21668, Juneau, AK 99802-1668; phone (907)586-7221; fax (907)586-7249.

FOR FURTHER INFORMATION CONTACT: Jennifer Jefferies or Ruth Johnson, (301)713-2289.

SUPPLEMENTARY INFORMATION: The subject permit is requested under the authority of section 104(c)(6) of the Marine Mammal Protection Act of 1972, as amended (16 U.S.C. 1361 et seq.), the Regulations Governing the Taking and Importing of Marine Mammals (50 CFR part 216). Section 104(c)(6) provides for photography for educational or commercial purposes involving non-endangered and non-threatened marine mammals in the wild. NMFS is currently working on proposed regulations to implement this provision. However, in the meantime, NMFS has received and is processing this request as a “pilot” application for Level B Harassment of non-listed and non-depleted marine mammals for photographic purposes.

The purpose of the proposed project is to film several species of non-listed marine mammals for an ongoing project that is tentatively titled “Death of an Ecosystem?”. While this project has been ongoing for several years, Mr. McLaughlin desires to film from a closer vantage point, i.e. within 100 yards of an individual animal. The closeness of filming would be considered Level B harrassment and therefore would require a permit under the MMPA. The photographers intend to attempt to document marine mammal movement and aggregation under varying conditions including the presence of boat traffic. This will be done using a fusion of passive acoustic recording equipment with different filming equipment, including still and video, as well as different filming platforms, including elevated filming platforms. The action area would include waters off the coasts of California, Oregon, Washington and Alaska. The resulting film footage will be dispensed in part for print and broadcast media, to researchers as well as for educational purposes. The Permit would expire 2 years after the date of issuance.

In compliance with the National Environmental Policy Act of 1969 (42 U.S.C. 4321 et seq.), an initial determination has been made that the activity proposed is categorically excluded from the requirement to prepare an environmental assessment or environmental impact statement.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile to (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: June 23, 2003.
Stephen L. Leathery,
Chief, Permits, Conservation and Education Division, Office of Protected Resources, National Marine Fisheries Service.

[FR Doc. 03-16219 Filed 6-25-03; 8:45 am]

BILLING CODE 3510-22-S